DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

AGENCY: United States Patent and Trademark Office (USPTO).

Title: Fastener Quality Act Insignia Recordal Process.

Form Number(s): PTO-1611.

Agency Approval Number: 0651-0028.

Type of Request: Extension of a currently approved collection.

Burden: 26 hours annually.

Number of Respondents: 150 responses per year.

Avg. Hours Per Response: The USPTO estimates that it will take the public approximately 10 minutes (0.17 hours) to gather the necessary information, prepare the form, and submit the request for recordal or renewal of a fastener insignia.

Needs and Uses: Under Section 5 of the Fastener Quality Act of 1999, 15 U.S.C. 5401 et seq., as implemented in 15 CFR 280.300 et seq., certain industrial fasteners must bear an insignia identifying the manufacturer. Manufacturers use this collection to record and renew fastener insignias with the USPTO so that these fasteners can be traced to their manufacturers. After the manufacturer submits a complete application for recordal of a fastener insignia, the USPTO will issue a Certificate of Recordal, which remains active for five years. The USPTO uses this information to maintain the Fastener Insignia Register, which is open to public inspection.

Affected Public: Businesses or other for-profits.

Frequency: On occasion and renewal every 5 years.

Respondent's Obligation: Mandatory.

OMB Desk Officer: David Rostker, (202) 395-3897.

Copies of the above information collection proposal can be obtained by calling or writing Susan K. Brown, Records Officer, Office of Data Architecture and Services, Data Administration Division, USPTO, Suite 310, 2231 Crystal Drive, Washington, DC 20231, by phone at (703) 308-7400, or by e-mail at susan.brown@uspto.gov.

Written comments and recommendations for the proposed information collection should be sent on or before March 27, 2003 to David Rostker, OMB Desk Officer, Room 10202, New Executive Office Building, 725 17th Street NW, Washington, DC 20503.

Dated: February 14, 2003.
Susan K. Brown,
Records Officer, USPTO, Office of Data Architecture and Services, Data Administration Division.

[FR Doc. 03-4338 Filed 2-24-03; 8:45 am]

BILLING CODE 3510-16-P